ENVIRONMENTAL PROTECTION AGENCY

40 CFR Part 52

[EPA-R10-OAR-2011-0367; FRL-9756-8]

Approval and Promulgation of Implementation Plans; State of Alaska; Regional Haze State Implementation Plan

AGENCY: Environmental Protection Agency (EPA).

ACTION: Final rule.

SUMMARY: EPA is approving a State Implementation Plan (SIP) submittal from the State of Alaska as meeting the requirements of Clean Air Act (CAA) sections169A and 169B and federal regional haze regulations. The SIP implements a regional haze program in the State of Alaska for the first regional haze planning period, through July 31, 2018. This submittal addresses the requirements of the Clean Air Act (CAA) and EPA's rules that require states to prevent any future and remedy any existing manmade impairment of visibility in mandatory Class I areas caused by emissions of air pollutants from numerous sources located over a wide geographic area (also referred to as the “regional haze program”). In this action, EPA is approving all provisions of Alaska's Regional Haze SIP submission, including the requirements for the calculation of baseline and natural visibility conditions, statewide inventory of visibility-impairing pollutants, best available retrofit technology (BART), Reasonable Progress Goals (RPGs), and Long-Term Strategy (LTS). Additionally, EPA is approving the Alaska Department of Environmental Conservation Best Available Retrofit Technology regulations, and amendments to Alaska's Area Wide Pollution Control Program for Regional Haze.

DATES: This final rule is effective March 18, 2013.

ADDRESSES: EPA has established a docket for this action under Docket ID No. EPA-R10-OAR-2011-0367. All documents in the docket are listed on the www.regulations.gov Web site. Although listed in the index, some information is not publicly available, e.g., Confidential Business Information (CBI) or other information whose disclosure is restricted by statute. Certain other material, such as copyrighted material, is not placed on the Internet and will be publicly available only in hard copy form. Publicly available docket materials are available either electronically through www.regulations.gov or in hard copy at the State and Tribal Air Programs Unit, Office of Air Waste and Toxics, EPA Region 10, 1200 Sixth Avenue, Seattle, WA 98101. EPA requests that if at all possible, you contact the individual listed in the FOR FURTHER INFORMATION CONTACT section to view the hard copy of the docket. You may view the hard copy of the docket Monday through Friday, 8:00 a.m. to 4:00 p.m., excluding Federal holidays.

FOR FURTHER INFORMATION CONTACT: Keith Rose, EPA Region 10, Suite 900, Office of Air, Waste and Toxics, 1200 Sixth Avenue, Seattle, WA 98101, (206) 553-1949.

SUPPLEMENTARY INFORMATION:

Definitions

For the purpose of this document, we are giving meaning to certain words or initials as follows:

(i) The words or initials Act, CAA, or Clean Air Act mean or refer to the Clean Air Act, unless the context indicates otherwise.

(ii) The words EPA, we, us or our mean or refer to the United States Environmental Protection Agency.

(iii) The initials SIP mean or refer to State Implementation Plan.

(iv) The words Alaska and State mean the State of Alaska.

Table of Contents

I. Background Information

II. Response to Comments

III. Final Action

IV. Statutory and Executive Orders Review

I. Background Information

In the CAA Amendments of 1977, Congress established a program to protect and improve visibility in the national parks and wilderness areas. See CAA section 169A. Congress amended the visibility provisions in the CAA in 1990 to focus attention on the problem of regional haze. See CAA section 169B. EPA promulgated regulations in 1999 to implement sections 169A and 169B of the Act. These regulations require states to develop and implement plans to ensure reasonable progress toward improving visibility in mandatory Class I Federal areas ¹ (Class I areas). 64 FR 35714 (July 1, 1999); see also 70 FR 39104 (July 6, 2005) and 71 FR 60612 (October 13, 2006).

¹ Areas designated as mandatory Class I Federal areas consist of national parks exceeding 6000 acres, wilderness areas and national memorial parks exceeding 5000 acres, and all international parks that were in existence on August 7, 1977. 42 U.S.C. 7472(a). In accordance with section 169A of the Clean Air Act, EPA, in consultation with the Department of Interior, promulgated a list of 156 areas where visibility is identified as an important value. 44 FR 69122 (November 30, 1979). The extent of a mandatory Class I area includes subsequent changes in boundaries, such as park expansions. 42 U.S.C. 7472(a). Although states and tribes may designate as Class I additional areas which they consider to have visibility as an important value, the requirements of the visibility program set forth in section 169A of the Clean Air Act apply only to “mandatory Class I Federal areas.” Each mandatory Class I Federal area is the responsibility of a “Federal Land Manager.” 42 U.S.C. 7602(i). When we use the term “Class I area” in this action, we mean a “mandatory Class I Federal area.”

On February 24, 2012, EPA published a Notice of Proposed Rulemaking (NPR) for the State of Alaska. See 77 FR 11022. In the NPR, EPA proposed approval of the Alaska SIP submittal that addresses regional haze for the planning period 2008 through 2018. The Regional Haze Plan was submitted to EPA on April 4, 2011. Specifically, EPA proposed to approve all provisions of Alaska's April 4, 2011 Regional Haze SIP submission. In this action, EPA is approving all provisions of Alaska's Regional Haze SIP submission, including the requirements for the calculation of baseline and natural visibility conditions, statewide inventory of visibility-impairing pollutants, best available retrofit technology (BART), Reasonable Progress Goals (RPGs), Long-Term Strategy (LTS), ADEC's BART regulations in 18 AAC 50.260, and the amendments to 18 AAC 50.030 which adopts by reference Volume II, Section III. F. Open Burning; Volume II, Section III. K. Area Wide Pollution Control Program for Regional Haze; and Volume II, Appendices to Volume II.

A detailed explanation of the requirements for regional haze SIPs as well as EPA's analysis of Alaska's SIP submittal was provided in the NPR and will not be repeated in detail here.

Most of the comments received on the NPR addressed the Healy coal-fired power plant (Healy Power Plant) located in Healy, Alaska just five miles from Denali National Park. The Healy Power Plant consists of 2 power generating units. Unit 1 is subject to BART as a nominal 25 megawatt (MW) coal-fired electric generating unit that was initially constructed in 1967. Unit 2, also referred to as the Healy Clean Coal Project (HCCP), is a nominal 50 MW coal-fired electric generating unit, was constructed in 1997, is not subject to BART, and has not operated since 1999. Golden Valley Electric Association, Inc. (GVEA) owns and operates Unit 1. GVEA and the Alaska Industrial Development and Export Authority (AIDEA) currently own Unit 2. GVEA and AIDEA intend to reactivate and/or restart Unit 2.²

² Unit 2 previously went through Prevention of Significant Deterioration (PSD) review and received an Air Quality Control Permit issued in 1993 and amended in 1994. On February 3, 2011, ADEC issued Final Air Quality Control Permit No. AQ0173TVPO2 to GVEA.

Subsequent to the publication of the NPR, the United States entered into negotiations with GVEA and the AIDEA regarding their future work plans and intent to operate Unit 2 at the Healy Power Plant. These negotiations resulted in the United States, on behalf of EPA, filing a civil complaint for injunctive relief concurrently with a consent decree in the United States District Court for the District of Alaska.³ The consent decree recognizes that GVEA and AIDEA intend to reactivate and/or restart Unit 2 and that, as alleged in the complaint accompanying the consent decree, the United States believes that GVEA's and AIDEA's project at Unit 2 at the Healy Power Plant would result in the operation of a new source or, in the alternative, a major modification of an existing source without obtaining the necessary permits under the Act and without the installation and operation of the state-of-the-art controls necessary under the Act to reduce air pollutants, particularly oxides of nitrogen (NOx) emissions from Unit 2. While not admitting liability, GVEA and AIDEA agreed to comply with specified pollution control requirements and emissions limits for Unit 1 and Unit 2 at the Healy Power Plant.

³ United States v. Golden Valley Electric Association, Inc. and Alaska Industrial Development and Export Authority, Civ. No. 4:12-cv-00025-RRB (D. Alaska). The United States filed an Unopposed Motion to Enter the Consent Decree on November 14, 2012.

The consent decree requires GVEA to install Selective Non-Catalytic Reduction (SNCR) on Unit 1 on or before September 30, 2015 or 18 months after Unit 2 first fires coal, whichever is later. Additionally, by December 31, 2022, GVEA must elect to either permanently retire Unit 1 by December 23, 2024 or install Selective Catalytic Reduction (SCR). If GVEA elects to operate Unit 1 after December 31, 2024 it must continuously operate the SCR and comply with specified emission limits. The consent decree also requires GVEA and AIDEA to install SCR on Unit 2 on or before September 30, 2015 or 24 months after it first fires coal and to comply with specified emission limits.

The consent decree also acknowledges that EPA is currently reviewing the Regional Haze SIP submittal from Alaska and that EPA may consider the enforceable conditions in the consent decree when it takes final action on that SIP submission. Additionally the consent decree provides that nothing in the consent decree relieves GVEA or AIDEA of their obligation to comply with all applicable state or federal, state and local laws and regulations, specifically including the BART requirements in the Alaska SIP or emission limits or deadlines for the installation of pollution controls set forth in the regulations.

II. Response to Comments

EPA received a number of comments on the proposed action to approve the Alaska Regional Haze SIP submittal. These comments were received from the Alaska Department of Environmental Conservation (ADEC), Sierra Club, the National Park Service, Denali Citizens' Council, National Parks and Conservation Association (NPCA), and Golden Valley Electric Association (GVEA) and a number of individual commenters or members of organizations. The individual comments included many identical or nearly identical comment letters that were part of a public comment campaign sponsored by Sierra Club, NPCA and CREDO. Additionally, on June 29, 2012, Earth Justice submitted a letter to EPA on behalf of the NPCA commenting on a number of Regional Haze SIPs, including Alaska, that were pending review before the agency. Even though the letter was submitted after the close of the comment period for this action, we have taken these comments into account and are responding to those comments relevant to this action in this notice.

The EPA's responses to the comments are grouped into three categories: (1) Comments on BART for Healy Unit 1; (2) Comments on Reasonable Progress and Healy Unit 2; and (3) General Comments.

A. Comments Related to BART for Healy Unit I

As noted above, the majority of the comments received related to the Healy Power Plant. Numerous comments were received regarding the selection of Selective Non-Catalytic Reduction (SNCR) rather than Selective Catalytic Reduction (SCR) as BART for Healy Unit 1. Many of the comments focused on the cost of controls, cost effectiveness calculations, and the lack of an enforceable shut down date for the unit.

After reviewing the public comments, we performed additional analyses of the cost effectiveness associated with the various NOX control technologies considered by ADEC in determining BART for Unit 1 at the Healy Power Plant. While evaluating the public comments received on the proposed approval of the Alaska Regional Haze SIP submission, we considered the enforceable conditions in the consent decree and the resulting controls, limits and emission reductions. We also considered our additional technical and cost effectiveness analyses. The specific comments and responses are described below.

Comment: A number of commenters asserted that BART should be SCR for Healy Unit I. More specifically, a comment concluded that BART for Healy Unit 1 should require the installation and operation of SCR at a 0.035 lb/mmBtu emission limit and stated that SCR technology is the industry standard for NOX removal. Other commenters asserted that SCR could achieve a limit between 0.05 and 0.07 lbs/mmBtu. In the commenters' view, the State's analysis overestimated the SCR costs and underestimated its benefits. One comment pointed to EPA's finding in other determinations that BART for NOX is 0.05 lbs/mmBtu. For the San Juan coal-fired generating station in New Mexico, EPA imposed a 0.05 lbs/mmBtu BART limit, and the final permit for the Desert Rock coal-fired generating plant imposed a limit of 0.035 lbs/mmBtu.

Response: EPA agrees that a more stringent emission rate is achievable with SCR than with SNCR. A BART determination is based on consideration of multiple factors. As explained in the NPR, the State found that SCR is not cost effective at this facility for an 8 year equipment lifetime. Although EPA does not agree with the State's use of an 8 year equipment life, we are approving the BART limit for NOX of 0.20 lbs/mmBtu based on the installation of SNCR. After considering the comments received, EPA calculated the cost of SCR using a 30 year lifetime for the controls in addition to the 20 year lifetime cost calculation that EPA had undertaken prior to the proposed action. Based on the vendor's quote for SCR and having eliminated costs that were not consistent with EPA's Control Cost Manual, EPA found that the cost effectiveness of SCR at Healy Unit 1 is about $5,900/ton for a 20 year equipment lifetime, and about $5,300/ton for a 30 year lifetime. See “Revisions to Healy Unit 1 Cost Effectiveness Calculations”, memo from Zach Hedgpeth to Keith Rose, October 15, 2012. Based on modeled results of visibility impacts at different emission rates, the State also found that the incremental visibility improvement at Denali National Park associated with an emission rate of 0.07 lbs/mmBtu (achievable with SCR) versus the improvement expected with an emission rate of 0.19 lb/mmBtu (achievable with SNCR) to be relatively small (about 0.17 dv).

In this case, as explained in more detail in the proposal, ADEC selected the BART NOX emission limit for Healy Unit 1 based on their consideration of the BART five-step review process, information provided in GVEA's BART analyses, the Enviroplan GVEA Healy BART Report, and a decision by ADEC to grant GVEA's request to allow for some operational variability in the NOX emission rate for Healy Unit 1. 77 FR 11034, February 24, 2012. The Regional Haze rule grants States the authority to make the initial determination of what constitutes BART. EPA reviews that determination to ensure that the appropriate factors were considered and that the determination by the State is a reasonable one.

BART is a source by source determination based on consideration, among other things, of the cost of controls at the source and the visibility improvement expected to result from the installation of controls at the source. In other words, each BART determination is made based on a site-specific, fact-specific evaluation of the particular BART source. Here, to name but one difference between Healy and the San Juan Generating Station as an example, the BART unit at Healy is only rated at 25 MW, whereas the four units at the San Juan facility are rated at a total of 1,800 MW. The size of the unit can affect both the cost effectiveness of controls as well as the associated air quality or visibility impacts. As a result, the conclusion that SCR is BART for one facility is not determinative in another BART determination. The decision as to appropriate controls for the Desert Rock facility to meet the requirements of another CAA program, the prevention of significant deterioration or PSD program, is of even less relevance to the determination of BART for Healy Unit 2.

EPA also notes that pursuant to the consent decree described above, no later than December 31, 2022, GVEA must decide whether it will continue to operate Unit 1 past December 31, 2024 (the date upon which ADEC based its cost effectiveness calculations) or whether it will permanently retire the Unit by December 31, 2024. If GVEA elects to continue operation after December 31, 2024, it must install SCR control technology (or alternate control technology approved by EPA).

Taking all this into consideration, EPA is approving the State's NOX BART determination for Healy Unit 1 as meeting the requirements of the CAA.

Comment: A number of comments state that the SIP fails to adequately address the shutdown date required as part of the BART determination for Healy Unit 1. The commenter references the BART guidelines statements that “if a shutdown date affects the BART determination, this date should be assured by a federally or state enforceable restriction preventing further operation.” The commenters assert that this requirement is not addressed in the SIP submittal and that the SIP should make clear that a shutdown date of 2024 is a requirement for Unit 1.

Response: As noted in the proposal, the BART Guidelines explain that the source's remaining useful life may be considered as an element of the cost analysis in a BART determination for a particular source and, as the comment points out, where the retirement date affects the BART determination, the date should be enforceable. BART Guidelines IV.D.4.k. 70 FR 39169, July 6, 2005. In our proposed rulemaking, we recognized that the 2024 shutdown date relied on in the State's cost effectiveness calculation is not enforceable. Because of this, EPA conducted additional analyses of the cost effectiveness of the particular control technologies under consideration for Healy Unit 1 based on the estimated useful lifetime for the controls. 77 FR 11034, February 24, 2012. For that analysis we used lifetimes of 20 years for NOX control technologies, and 15 years for SO2 and PM control technologies. Based on additional information received during the public comment period, we subsequently evaluated the cost effectiveness of the NOX control technologies for Healy Unit 1 based on a 8, 15, 20 and 30 year lifetime. This analysis calculated the cost effectiveness of SNCR, SCR, Rotating Over Fire Air (ROFA), ROFA with Rotamix, and optimization of the low NOX burners with a modified over-fire air system. Thus, EPA's revised cost analysis specifically examined the cost effectiveness of SCR over both 20 and 30 year lifetimes. The revised cost analysis calculates SCR costs of about $5,900/ton of NOX reduced for a 20 year equipment lifetime, and $5,300/ton of NOX reduced for a 30 year equipment lifetime. After reviewing new information submitted from the commenters, and adjusting the assumptions in our cost effectiveness calculations, EPA continues to find that it was reasonable for the State to conclude that the additional cost for SCR over SNCR, even when based on 20 year or 30 year lifetimes, is not justified.

Our analysis confirmed that the reduced period for the remaining useful life used by the State in its BART analysis did not change the level of control that would reasonably be required as BART at this facility. As explained above, based on consideration of all the BART factors, including cost effectiveness, the remaining life, and visibility improvement estimated to result with emission limits associated with the different controls, the State's decision to reject SCR is not unreasonable.

Comment: EPA failed to conduct an adequate review of Alaska's cost projections for SCR technology on Healy Unit 1. EPA relied on Alaska's submission of a single vendor's quote (Fuel Tech) for the cost of SCR. The cost of an SCR can vary significantly depending on the vendor and its specifications, and EPA did not even review the details in this vendor's estimate. Both the Fuel Tech report and the GVEA report use cost assumptions that are contrary to the Cost Control Manual. EPA cannot reject SCR on cost effectiveness grounds without more sufficient factual support.

Response: EPA disagrees with the comment regarding Fuel Tech's cost quotes. It is appropriate for our cost analysis to rely, at least in part, on the vendor's quote which is based on site specific information and specifications. In conducting our analysis described above, we reduced the vendor's cost estimates for a number of components, including annual operating and maintenance (O&M) costs, NOX emission rates for SCR, expected equipment lifetime, and costs for a new induced draft fan, consistent with the EPA Control Cost Manual methodology.

Comment: One commenter asserted that the NOX control options evaluated for Healy Unit 1 could be implemented sooner that the five years assumed by Alaska, in which case a 2024 shut down date may affect the cost effectiveness of feasible emission control technologies considered for Healy Unit 1.

Response: EPA recognizes that the time it takes to implement controls and the length of time the controls may operate affect the cost effectiveness calculation and thus the ultimate BART determination. EPA acknowledges that SNCR installations may typically require 8 to 12 months, however, the amount of time necessary for installation at a particular facility may vary significantly depending on the site specific circumstances, such as weather conditions, and the frequency and duration of maintenance periods for a particular power plant. Additionally, as noted above, the shut down date does not affect the BART determination here and thus the State's estimate of the time it may take to install SNCR does not significantly affect the cost effectiveness calculations of that technology.

Comment: A commenter asserts that EPA's proposal does not require meaningful emission reductions from this outdated coal plant. Further the comment states that limits proposed for SO2 and NOX at Healy do not represent the “degree of reduction achievable through the application of the best system of continuous emission reduction” and that EPA must impose lower BART emission limits for SO2 and NOX at Healy Unit 1 that are consistent with modern pollution control technology.

Response: The State's BART determination found that 0.20 lbs/mmBtu is the appropriate NOX limit based on continued use of the current low NOX burners (LNB) and over fired air (OFA) systems, and the new installation of SNCR. This limit represents a reduction of 29% from baseline emissions of NOX from Healy 1. The BART limit for SO2 is 0.30 lb/mmBtu based on the current Dry Sorbent Injection (DSI) system. As explained above, based on comments received on the proposed rulemaking, EPA reevaluated the cost effectiveness of SCR on Healy Unit 1 based on 20 and 30 year lifetimes, and evaluated the cost effectiveness of SNCR, ROFA, ROFA with Rotamix, and optimization of the low NOX burners with overfire air system for 30 year lifetimes. Though some of the more stringent control technologies for NOX (such as ROFA with Rotamix) and for SO2 (such as DSI optimization), are reasonable in terms of cost effectiveness, the incremental visibility improvement achievable with these technologies, over the BART limits determined by ADEC for Healy Unit 1, are relatively small. For example, ROFA with Rotamix is estimated to result in just 0.166 dv more visibility improvement than that which is expected to result from SNCR, and DSI optimization may possibly improve visibility by just 0.25 dv. The incremental visibility improvement at Denali National Park for SCR over SNCR is only about 0.17 dv. EPA agrees with the State that the additional cost of SCR over SNCR is not justified at this facility by the relatively small incremental improvement in visibility.

Comment: A commenter asserts that even though a NOX emissions limit of 0.19 lb/mmBtu is far too high to be BART for Healy Unit 1, EPA did not provide adequate justification for using a 0.20 lb/mmBtu emissions limit instead of 0.19 lb/mmBtu. The commenter states that Alaska found that SNCR could achieve a 0.19 lb/mmBtu emission limit at Healy, but then allowed a 5% higher emission rate for “operating variability” and that EPA accepted this determination without further analysis. There is no data showing that this need for variability necessarily exists, and furthermore, neither Alaska nor EPA conducted a visibility analysis based on the 0.20 lb/mmBtu emission limit.

Response: In the proposal, EPA explained that the State's basis for setting the NOX limit at 0.20 lb/mmBtu rather than 0.19 lb/mmBtu was GVEA's analysis of 5 years of 30 day rolling average NOX and SO2 emissions from Unit 1. Based on this data, the State determined that the small increase would appropriately allow for operational flexibility. 77 FR 11034, February 24, 2012. EPA found that a 5% increase in NOX emissions over the 0.19 lb/mmBtu achievable with SNCR, to allow for operational variability of Healy Unit 1, is reasonable and EPA has decided that the State's determination to set the NOX limit at 0.20 lb/mmBtu is approvable.

Comment: The comment states that ROFA would achieve a 0.66 dv incremental visibility improvement over the improvement associated with SNCR at Healy 1. EPA cannot dismiss a cost-effective improvement greater than the improvement it proposes to accept. Also, EPA improperly rejected ROFA with Rotamix as BART based on an unclear relationship between NOX and CO, CO2 and PM emissions.

Response: EPA disagrees with the comment regarding the incremental visibility improvement between SNCR and ROFA. The SIP submittal indicates that the incremental visibility improvement expected to result from ROFA compared to SNCR would only be 0.049 dv, and ROFA with Rotamix compared to SNCR to be just 0.116 dv. See Table 8-1 of Appendix III.K.6 of the SIP submittal. EPA regards the small incremental visibility improvements from ROFA or ROFA with Rotamix as insufficient to justify the increased cost of either technology, regardless of the risk of additional collateral pollutant (CO, CO2, and PM) emission increases.

Comment: GVEA agrees with Alaska and EPA that the BART process results in an emissions limit for NOX based on the limit that can be achieved with SNCR, and that SCR would not be cost effective.

Response: As explained above, the State's conclusion regarding the BART limit for Healy Unit 1 is reasonable. In this action EPA is approving Alaska's determination that the NOX BART emission limit for Healy Unit 1 is 0.20 lb/mmBtu.

Comment: EPA proposed that the current sulfur dioxide emissions limit of 0.30 lb/mmBtu is BART. EPA erroneously rejected optimization of the DSI system, which could achieve a 0.18 lb/mmBtu emission limit. This lower emissions limit would result in significant reduction in sulfur dioxide emissions and greatly improve visibility at Denali. EPA found that DSI optimization is cost-effective; however, it rejected this more stringent limit based on its concerns about a “brown plume” effect. The commenter further asserts there is no demonstration that the rapid conversion to NO2 nearer the source will make any difference to the visibility in Denali. It is improper for EPA to dismiss this control possibility based on anecdotal evidence, which is not even linked to plant-specific characteristics present at Healy. The comment suggests that a short term pilot study be made part of the SIP to test the relationship between mercury emissions and sorbent injection rates.

Response: For the reasons explained in the SIP submittal and summarized in the proposal, after considering all the BART factors, the State's BART analysis for SO2 at Healy Unit 1 found that the current DSI control technology with a limit of 0.30 lb/mmBtu is BART for SO2. The State's analysis found that increased sorbent injection, at a cost of $3578/ton of SO2 removed would result in a potential visibility improvement of 0.25 dv but could also cause a visibility impairing brown plume which would interfere with rather than improve visibility in the nearby Denali National Park. EPA does not consider this amount of potential improvement in visibility achievable by optimizing the existing DSI system when coupled with the potential for brown plume to provide sufficient basis to disapprove the State's SO2 BART determination for Healy Unit 1.

The State retains the ability to consider requiring a pilot study in the future. The results of such a study, along with available information to better evaluate the potential for brown plume, could be used to further evaluate optimizing DSI as potential control technology when the State evaluates reasonable progress in the next planning period for regional haze. The other SO2 control options analyzed, a spray dryer and wet limestone flue gas desulfurization, were considered not cost effective. See 77 FR 11034, February 24, 2012. Given these considerations, EPA has decided that the State's SO2 BART determination for Healy Unit 1 is reasonable.

Comment: One commenter suggested that the effectiveness of a Lime Spray Dryer (LSD) was underestimated and recommended that EPA require GVEA to evaluate the LSD SO2 treatment technology with plume reheat to see if the efficiency of the existing DSI system can be increased.

Response: EPA does not believe this further analysis is required. Plume reheat would require additional fuel combustion. This would increase CO2 emissions and add to the costs of a wet scrubbing control system.

B. Comments Related to the State's Reasonable Progress Demonstration and Healy Unit 2

A number of comments were received regarding the State's analysis of future sources that may impact visibility in Denali National Park. The commenters were particularly concerned with the emissions associated with Healy Unit 2 and contend its emissions should have been included in the State's reasonable progress and long term strategy analysis and determinations.

Comment: Commenters claim that, in general, the SIP does little to address additional emissions that are reasonably foreseeable. A number of industrial developments are currently moving forward in the Denali region, and are not even mentioned in Alaska's SIP. At a minimum, the SIP should address how it will deal with future emissions and construction activities occurring prior to the SIP's next review phase that would affect Denali's Class I Airshed. The commenters state that it is not prudent to delay this planning to the future.

Response: Contrary to the comments, the State in its SIP did account for future growth in emissions from industrial sources through 2018 by considering and evaluating population growth factors. The State used population projections compiled by the Alaska Department of Labor and Workforce Development (DOLWD) at five-year intervals through 2030 by individual borough and census areas to grow 2002 baseline activity to 2018 for most of the source categories. In addition, emission factors specific to calendar year 2018 were also developed for stationary point sources affected by regulatory control programs and technology improvements. The SIP submittal does not consider emissions from specific industrial projects that are planned for the future, or permitted point sources that are not currently operating but which may be in operation in 2018. Emissions from any such point sources will be considered and evaluated in future updates to the Alaska Regional Haze plan as they come into operation. A full description of the emission sources included in the 2018 projected inventory can be found in section III.K.5 of the SIP submittal.

Comment: Multiple commenters claim that the failure to account for emissions from Healy Unit 2 results in an inaccurate conclusion that the State is on the “glide path” to achieving its reasonable progress goals. Alaska failed to include Healy Unit 2 in its reasonable progress analysis, a facility which is projected to come on line in the near term, and that because Unit 2 is in the same footprint as Healy Unit 1 its emissions may prevent reasonable progress at Denali. The commenters assert that EPA must issue adequate emission limits for Healy Unit 2 to ensure reasonable progress not be thwarted by anticipated haze causing emissions.

Response: EPA recognizes that the Alaska Regional Haze SIP submittal does not address future emissions from Healy Unit 2 and that if, or when, it begins operating its emissions could influence Alaska's ability to achieve their reasonable progress goals. As explained above, Healy Unit 2, was originally permitted in 1994, operated briefly for testing in the late 1990's and has not operated at all since December 1999. It is a 50 MW non-BART unit. Unit 2 was not operating during the baseline period and its emissions were not included in the State's baseline emissions inventory. Recently, as further explained in the proposal, ADEC issued a renewed Title 5 permit to GVEA allowing future operation at Unit 2. However its future emissions have not been modeled and its potential visibility impact have not been determined at this time. 77 FR 11036, February 24, 2012. The Unit is still not operating. In the proposal, EPA indicated that it would consider additional relevant information it receives during public comment period regarding the emissions or visibility impact of this source as it relates to Alaska's reasonable progress goals. We did not receive additional specific information regarding Healy Unit 2 emissions or its future visibility impacts. The potential emissions for Healy Unit 2 have not been modeled therefore we cannot accurately assess the Unit's potential future visibility impacts.

In its SIP submittal, should Unit 2 be restarted, Alaska has committed to reassess the need for further control on the source during the five-year review to determine whether additional emission reductions would improve visibility in Class I areas in the next planning period. Thus, more specifically, in order to determine the affect of any such emissions from Healy Unit 2 on the glide path, the State will need to assess its emissions in future reasonable progress evaluations conducted pursuant to 40 CFR 51.308(g).

Additionally, EPA notes that the U.S. v. GVEA and AIDEA consent decree acknowledges that the anticipated operation of Unit 2 could be viewed as the operation of a new source and imposes additional enforceable requirements on Unit 2 that go beyond the Regional Haze SIP requirements. As described more fully above, pursuant to the consent decree, GVEA is subject to SCR installation requirements, strict NOX emission limits and associated monitoring recordkeeping and reporting requirements. Additionally, the consent decree establishes declining NOX emission limitations for both Unit 1 and Unit 2. Its emissions will be well controlled. It is unlikely that even if the State were to include the future emissions from Healy Unit 2 in its reasonable progress analysis that controls beyond those required under the consent decree would be necessary under the reasonable progress provisions in the regional haze rule.

In consideration of a number of factors including the current non-operational status of Healy Unit 2, the uncertainty of its future emissions, the State's commitment to assess its emissions during the 5-year review and the enforceable terms and conditions in the U.S. v. GVEA and AIDEA consent decree, EPA approves Alaska's treatment of Healy Unit 2 in its reasonable progress determination as proposed.

Comment: GVEA agrees with Alaska and EPA that the exact amount of impact from any operation of Healy Unit 2 cannot be determined at this time and that it is not reasonable to require additional controls on Healy Unit 2. However, GVEA does not agree with the State's assumption that it will necessarily have to “consider” Healy Unit 2 in its reasonable progress evaluation.

Response: As explained above, Alaska has committed to assess emissions from Healy Unit 2 in the reasonable progress evaluation in its 5-year assessment and in its 2018 Regional Haze SIP submittal. Given the location of Healy Unit 2, EPA believes that Alaska's commitment is not only appropriate but is necessary to ensure reasonable progress. EPA is approving Alaska's treatment of Healy Unit 2 in its reasonable progress determination as proposed.

Comment: Alaska's LTS fails to satisfy obligations under the Regional Haze Rule toward achieving natural visibility conditions at Denali. The Clean Air Act requires states to submit implementation plans that “contain such emission limits, schedules of compliance and other measures as may be necessary to make reasonable progress toward meeting the national goal” of achieving natural visibility conditions at all Class I Areas.

Response: In developing a LTS, the Regional Haze Rule requires that states address six topics: (1) Ongoing Air Pollution Control Programs, (2) Measures to Mitigate Impacts of Construction Activities, (3) Emission Limitations and Schedules for Compliance, (4) Source Retirement and Replacement Schedules, (5) Smoke Management Techniques for Agricultural and Forestry Burning, and (6) Enforceability of Emission Limitations and Control Measures. In its proposed rulemaking, EPA found that the Alaska Regional Haze SIP submittal adequately addressed all six topics, and proposed to find that the LTS as a whole provided sufficient measures to ensure that Alaska will meet its emission reduction obligations.

According to ADEC's reasonable progress analysis, there is no statistically significant difference between the visibility improvement predicted by the Weighted Emission Potential (WEP) analysis for 2018 and the 2018 visibility target needed to achieve the uniform rate of progress (URP) to meet natural visibility conditions by 2064 for each Alaska Class I area. ADEC reached this conclusion by showing that the WEP results for 2018 fall within the 95 percent confidence limits of the 2018 visibility goal for each Class I area. See Section 9.E of the SIP submission. EPA believes that the reasonable progress goals established by Alaska for its Class I areas are reasonable. EPA finds that controls identified in the submittal, including the elements identified in the LTS portion of the Alaska Regional Haze SIP, along with additional controls on Healy Unit 2 required as a result of the consent decree, will provide reasonable progress towards attaining the goal of achieving natural visibility conditions in Alaska's Class I areas by 2064.

C. General Comments Regarding Visibility and Air Quality in Alaska

EPA also received a number of general comments on a range of topics including the purpose of the Clean Air Act, the need to protect the visibility in Denali National Park, the impact of pollution on public health, the importance of visibility to tourism in Alaska, motoring techniques and coal combustion and other generalized concerns or comments.

Comment: EPA received numerous comments asking EPA to ensure clean air in Denali National Park, Fairbanks, Anchorage, and throughout the region, and asking EPA to strengthen Alaska's regional haze plan.

Response: EPA's final action in this rulemaking to approve Alaska's Regional Haze SIP will result in cleaner air in Denali National Park and throughout the region by placing stricter emission limits on sources that contribute to regional haze. The objective of the regional haze program is to improve and protect visibility in national parks and wilderness areas through successive 10-year regional haze plans developed by the states. The Alaska Regional Haze plan, as approved in this action, establishes emission limits, through BART. For instance, Healy Unit 1 will have new NOx emission limits that are expected to result in a significant improvement in visibility in Denali National Park. The combined effect of all of the elements in the State's long term strategy that were described in the NPR, including the emission limits established for Healy, will result in improved visibility in Denali National Park, and cleaner air throughout the region.

Comment: EPA received numerous comments on the health effects, primarily asthma, that are associated with air pollution, and urged EPA to place tighter controls on sources of air pollution in Alaska.

Response: We appreciate the commenters' concerns regarding the potential adverse health effects of air pollution. We agree that the same emissions that cause visibility impairment can also cause respiratory problems, such as decreased lung function, aggravated asthma, and bronchitis. Although our action addresses visibility impairment, we note that there is the potential for improvements in human health through reductions in regional concentrations of visibility impairing pollutants.

Comment: We received a few comments saying that the purpose of the Clean Air Act is to protect our nation's air quality, especially at special places like Denali, the only national park in Alaska classified as a Class 1 area. These comments urged EPA not to allow air quality to degrade in the Denali National Park Class I area. We also received comments urging EPA to preserve the views at Denali National Park, and to ensure that tourism to pristine areas in Alaska is not adversely impacted by regional haze. Additional comments were submitted stating that Healy Units 1 and 2 are less than five miles from Denali, and are not being required to reduce emission enough to significantly decrease their visibility impacts on the park. These comments stated that modern and effective controls should be required to stem the haze pollution from Healy Unit 1 and Unit 2.

Response: EPA agrees that it is important to reduce the visibility and health impacts from man-made pollution at the Federal Class I Areas, such as Denali National Park. EPA's approval of Alaska's Regional Haze SIP will result in significant reductions in emissions and improvement in visibility in the State. This represents only the first step towards meeting the national goal of natural conditions in federal Class I Areas. The State's actions being approved in this rulemaking are the first in a series of actions that will be taken over the next several decades to improve visibility in Alaska Class I areas.

EPA also recognizes the role that protecting visibility in national parks and wilderness areas in Alaska has to tourism throughout the state. Reducing regional haze will help ensure that views in these parks and wilderness areas are preserved, and will continue to support tourism. We also appreciate the concern regarding Healy's proximity to Denali National Park. With approval of the State's BART determination for Healy, and as a result of the enforceable terms and conditions in the U.S. v. GVEA and AIDEA consent decree, the facility will be subject to modern and effective pollution control requirements and its emissions will be reduced. Additionally, the State will continue to assess its control strategies and visibility goals in future regional haze reviews. Additional more detailed responses to comments regarding controls on the Healy Power Plant are addressed above.

Comment: We received a comment regarding the Denali IMPROVE monitoring site. The commenter stated that while it appears that the Alaska Regional Haze SIP submittal equally considers data from both the Denali Headquarters and Trapper Creek monitoring sites, it does not explicitly state that this is the case. The SIP submittal describes the Denali Headquarters IMPROVE site as now a “protocol site” but does not define the difference between a protocol and primary site, or whether data from a primary site would be given preference over a protocol site. Monitoring pollutants affecting visibility in Denali should not only consider pollutant information south of the Alaska Range, but pollutants from nearby major sources such as the Healy Power Plant, and sources in the Fairbanks area and both sites should be given equal consideration in the future.

Response: According to the information on the national IMPROVE Web site (http://vista.cira.colostate.edu/improve/Overview/IMPROVENetworkExp.htm), the Denali Headquarters site was designated as the “IMPROVE” site, and the Trapper Creek site was designated as a “protocol” site when the IMPROVE network was expanded in 2002. EPA agrees with these designations, and also agrees that data from both the Denali Headquarters site and the Trapper Creek site should be used by Alaska to determine future progress toward visibility improvement goals in Denali National Park.

Comment: One commenter recommended that a more refined, receptor-by-receptor modeling analysis be conducted throughout Denali National Park to determine if visibility improvements greater than those predicted by GVEA for the Healy Unit 1 would be found.

Response: GVEA used the CALPUFF model to estimate the visibility impacts of Healy Unit 1 on Denali National Park. Alaska found that the CALPUFF modeling methods and related model input options used by GVEA were consistent with the WRAP CALPUFF modeling protocol and related BART guidance. The receptors used in the CALPUFF modeling were placed at uniform receptor spacing along the boundary and in the interior of Denali National Park, and were based on the National Park Service database for Class I area modeling receptors, found at: (http://www2.nature.nps.gov/air/maps/Receptors/index.cfm).

EPA believes that the modeling approach taken to determine visibility impacts from Healy Unit 1 is consistent with the BART modeling guidance and does not believe that including additional receptors in the CALPUFF modeling runs would have identified any greater visibility improvements for any given emission limits than those identified in the GVEA modeling results.

Comment: GVEA commented regarding the contributions from wildfires and out of State sources and supported the finding that natural wildfires inside Alaska are the primary contributors to regional haze at Denali National Park. GVEA also submits that the sources outside and upwind of Alaska are significant contributors to visibility impairment, and if visibility is not improving as planned, the monitoring data should be evaluated to quantify not only the impacts from natural wildfires, but from the out-of-state, upwind air pollution as well.

Response: The Alaska Regional Haze SIP submittal identifies organic carbon emissions from natural wildfires as the primary contributor to visibility impairment on the 20% worst days in Denali National Park. More specifically, the WEP analysis used by Alaska found that approximately 97% of the fine particulates causing visibility impairment on the 20% worst days in Denali National Park were composed of organic carbon from natural fires. Alaska will also review monitoring data prior to the five-year SIP update to determine progress towards the 2018 visibility goals in each Class I area. Alaska may decide at that time if additional source controls are necessary to achieve the 2018 goals. In addition, Alaska will undertake a comprehensive review of control strategies and visibility goals every 10 years. These subsequent reviews will evaluate whether this assessment of the dominance of fire continues to be the case.

Comment: EPA received numerous comments that emissions from coal combustion have impacts on visibility, human health, salmon, and climate change through emissions of carbon dioxide. The comments urged EPA to hold Alaska coal combustion sources, particularly utilities, to the highest emission standards with the most modern pollution control technology.

Response: The primary emission control action pertaining to coal-fired power plants taken in this final action is to establish BART emission limits on Healy Unit 1. The emission reductions achieved through BART for Healy Unit 1 will result in a decrease of nitrogen oxides emissions from 0.28 lb/mmBtu to 0.20 lb/mmBtu. Additionally it is noteworthy that, additional reductions in NOx, SO2 and PM emissions will be achieved through the emission limits on Healy Unit 1 and Unit 2 set forth in the US v. GVEA and AIDEA consent decree discussed above.

Comment: A comment contends that it is unclear whether this SIP fully reviews and addresses all options for control of anthropogenic pollutants that impair visibility in Denali's Class I airshed. For example, while the SIP references coal combustion as a source of Organic Matter Carbon (OMC) and Elemental Carbon (EC), it attributes all OMC and EC in the Denali region to wildfires. Considering that OMC and EC are present year-round, it's unclear why the state has avoided mention of OMC and EC's relationship to the Healy Power Plant and combustion related to power generation and home heating in and near the Denali Borough. This SIP should acknowledge the presence of OMC and EC from anthropogenic sources in and near the Denali Borough (and within the state), and should consider methods to control OMC and EC pollutants related to anthropogenic sources.

Response: As explained in the SIP submittal Chapter III.K.4 of the SIP, the major sources of OMC in Alaska are wildland fires (forest, wetland, and tundra) and biogenic aerosols produced by natural vegetation, and that wildfires in Alaska occur mostly during the May-August fire season. The SIP submittal also states that in Alaska, severe wildfires create a significant amount of EC, and that there is significant amount of elemental carbon aerosols reaching the state from Asia and Europe. Chapter III.K.4 of the SIP submittal also explains that wildfire-related OMC is the largest contributor of fine particulates on the 20% worst days at the Denali IMPROVE sites, particularly during the spring and summer months. Table III.K.7-1 of the SIP summarizes the Weighted Emission Potential (WEP) analysis results from the top three boroughs for each pollutant on the 20% worst days in Denali. This table shows that approximately 97% of the fine particulates (which includes particulates composed of OMC and EC) on the 20% worst visibility days at Denali National Park are due to natural fires in the Yukon Koyukuk, Southeast Fairbanks, and the Fairbanks North Star boroughs. The WEP analysis used by Alaska was developed by the WRAP as a screening tool for states to decide which source regions have the potential to contribute to haze formation at specific Class I areas. This method does not account for chemistry and removal processes in the atmosphere. Instead, the WEP analysis relies on an integration of gridded emissions data, meteorological back trajectory residence time data, a one-over-distance factor to approximate deposition and dispersion, and a normalization of the final results. The gridded emission data used by Alaska was consolidated into the following sources categories: Commercial marine vessels, natural fires, non-road mobile, on-road mobile, point, and stationary area sources. Therefore, the WEP analysis identified the OMC and EC contribution from the above man-made source categories, but was not able to determine the contribution of any single point source, such as the Healy Power Plant, or a subcategory of an area source, such as home heating sources. So while the SIP submission does not specifically identify the contribution of coal-combustion sources to visibility impairment in Denali National Park, it does demonstrate that wildfires are the major source of PM2.5 in the State, that wildfires have the greatest potential to impact visibility in Denali, and that wildfires are the major source of OMC on the worst visibility days in Denali National Park. Alaska may choose to use a more sophisticated chemical-speciation tracer analysis, such as the PM Source Apportionment Technology (PSAT) analysis developed by the WRAP (see the WRAP TSD, Chapter 6A), in the future to determine the contributions from specific point sources or subcategories of sources.

Comment: There were a few comments on topics not related to the proposal. These included comments regarding the regulation of mining activities in Alaska and mercury monitoring in Alaska.

Response: These comments may be important topics for discussion but they are not related to the proposed action.

Comment: We also received a comment urging the use of alternative forms of energy, such as reducing emissions from motor vehicles by shifting to alcohol fuels.

Response: The State has the option of pursuing cleaner forms of alternative energy to reduce emissions that cause regional haze in its Class I areas. Alaska decided not to implement the use of renewable energy in this Regional Haze SIP but may chose to do so in future SIPs.

Comment: ADEC commented that it appreciates EPA's thorough review of the Regional Haze SIP submittal and supports EPA's action to approve the plan and encouraged EPA to finalize its approval of the Alaska Regional Haze SIP as meeting the requirements of the Clean Air Act, Sections 169A and 169B, and the federal Regulations at 40 CFR 51.308.

Response: EPA appreciates this comment supporting our proposed action.

III. Final Action

EPA is approving the Alaska Regional Haze plan, submitted on April 4, 2011, as meeting the requirements set forth in sections 169A and 169B of the Act and in 40 CFR 51.308 regarding Regional Haze. In this action, EPA is approving all provisions of Alaska's Regional Haze SIP submission, including the requirements for the calculation of baseline and natural visibility conditions, statewide inventory of visibility-impairing pollutants, best available retrofit technology (BART), Reasonable Progress Goals (RPGs), and Long-Term Strategy (LTS). Additionally, EPA is approving the Alaska Department of Environmental Conservation Best Available Retrofit Technology regulations at 18 AAC 50.260, and amendments to 18 AAC 50.030 which adopts by reference Volume II, Section III.F. Open Burning; and Volume II, Section III.K. Area Wide Pollution Control Program for Regional Haze.

IV. Statutory and Executive Orders Review

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

In addition, this rule does not have tribal implications as specified by Executive Order 13175 (65 FR 67249, November 9, 2000), because the rule neither imposes substantial direct compliance costs on tribal governments, nor preempts tribal law. Therefore, the requirements of section 5(b) and 5(c) of the Executive Order do not apply to this rule. Consistent with EPA policy, EPA nonetheless provided a consultation opportunity to Tribes in Alaska located near the affected Class I areas in letters dated December 30, 2011. EPA received no requests for consultation in response to these letters.

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it approves a state rule implementing a Federal standard.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by April 15, 2013. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2))

List of Subjects in 40 CFR Part 52

Environmental protection, Air pollution control, Incorporation by reference, Intergovernmental relations, Nitrogen dioxide, Particulate matter, Reporting and recordkeeping requirements, Sulfur oxides, Visibility, and Volatile organic compounds.

Dated: November 15, 2012.
Dennis J. McLerran,
Regional Administrator, Region 10.

Part 52, chapter I, title 40 of the Code of Federal Regulations is amended as follows:

PART 52—APPROVAL AND PROMULGATION OF IMPLEMENTATION PLANS

1. The authority citation for Part 52 continues to read as follows:

Authority: 42 U.S.C. 7401 et seq.

Subpart C—Alaska

2. Section 52.70 is amended by adding paragraph (c)(41) to read as follows:

§ 52.70 Identification of plan.

* * * * *

(c) * * *

(41) On April 4, 2011, the Alaska Department of Environmental Conservation submitted a SIP revision to meet the regional haze requirements of Clean Air Act sections 169A and 169B, and Federal Regulations 40 CFR 51.308, to implement a regional haze program in the State of Alaska for the first planning period through July 31, 2018.

(i) Incorporation by reference.

(A) The following revised section of the Alaska Administrative Rules: Alaska Department of Environmental Conservation, 18 AAC 50.260, “Guidelines for Best Available Retrofit Technology under the Regional Haze Rule”, state effective date December 30, 2007.

(ii) Additional material.

(A) The following section of ADEC's air quality control regulations: 18 AAC 50.030 State Air Quality Control Plan; state effective date February 11, 2011; Volume II, Section III. F. Open Burning; and Volume II, Section III. K. Area Wide Pollution Control Program for Regional Haze.

3. Section 52.73 is amended by adding paragraph (g) to read as follows:

§ 52.73 Approval of plans.

* * * * *

(g) Visibility protection. (1) EPA approves the Regional Haze SIP revision submitted by the Alaska Department of Environmental Conservation on April 4, 2011, as meeting the requirements of Clean Air Act sections 169A and 169B, and Federal Regulations 40 CFR 51.308 to implement a regional haze program in the State of Alaska for the first planning period through July 31, 2018.

(2) [Reserved]

[FR Doc. 2013-03329 Filed 2-13-13; 8:45 am]

BILLING CODE 6560-50-P